DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 73 FR 20297-3 04, dated April 15, 2008) is amended to reflect the establishment of the Office of Critical Information Integration and Exchange within the National Center for Zoonotic, Vector Borne, and Enteric Diseases, Coordinating Center for Infectious Diseases, Centers for Disease Control and Prevention.

Section C-B, Organization and Functions, is hereby amended as follows: After the functional statements for the Mycotic Diseases Branch (CVHEG), Division of Foodborne, Bacterial and Mycotic Diseases (CVHE), National Center for Zoonotic, Vector-Borne, and Enteric Diseases (CVH), insert the following:

Office of Critical Information Integration and Exchange (CVHG). The mission of the Office of Critical Information Integration and Exchange (OCIIX) is to provide a CDC-wide resource that facilitates the exchange, integration, and visualization of relevant information from a variety of sources to enhance Agency and programmatic situational awareness for decision making and early event detection. To carry out its mission, OCIIX: (1) Develops tools that enable social networking and the creation of communities of practice to facilitate the exchange of information essential to developing an accurate and complete picture of developments that could threaten health worldwide; (2) identifies and/or develops information technologies to improve access to the integrated information; (3) detects, analyzes and communicates relevant information from a variety of sources to provide situational awareness services that reduce emergency response times for the CDC Office of the Director and Agency programs; and (4) analyzes, integrates and provides information to key stakeholders to widen their understanding of emerging threats and to enhance the effectiveness of subsequent response strategies.

Dated: May 8, 2008.
Joseph Henderson,
Acting Chief Operating Officer, Centers for Disease Control and Prevention.

[FR Doc. E8-10986 Filed 5-15-08; 8:45 am]

BILLING CODE 4160-18-M